ENVIRONMENTAL PROTECTION AGENCY

40 CFR Parts 52 and 81

[EPA-HQ-OAR-2016-0515; FRL-9962-25-OAR]

RIN 2060-AT24

Determinations of Attainment by the Attainment Date, Determinations of Failure To Attain by the Attainment Date and Reclassification for Certain Nonattainment Areas for the 2006 24-Hour Fine Particulate Matter National Ambient Air Quality Standards

AGENCY: Environmental Protection Agency (EPA).

ACTION: Final rule.

SUMMARY: The Environmental Protection Agency (EPA) is making final determinations of attainment by the attainment date and determinations of failure to attain by the attainment date for ten nonattainment areas currently classified as “Moderate” for the 2006 24-hour fine particulate matter (PM2.5) National Ambient Air Quality Standards (NAAQS). Specifically, the EPA is determining that seven areas attained the 2006 24-hour PM2.5 NAAQS by December 31, 2015, based on complete, quality-assured and certified PM2.5 monitoring data for 2013 to 2015. The EPA is also determining that three areas failed to attain the 2006 24-hour PM2.5 NAAQS by December 31, 2015. Upon the effective date of such determinations of failure to attain the NAAQS, these three areas will be reclassified as “Serious” for the 2006 24-hour PM2.5 NAAQS by operation of law. States with jurisdiction over these nonattainment areas reclassified to Serious are required to submit State Implementation Plan (SIP) revisions that comply with the statutory and regulatory requirements for 2006 24-hour PM2.5 NAAQS nonattainment areas classified as Serious. In this action, the EPA is not making any final determination regarding its proposed determination for the Logan, Utah-Idaho, nonattainment area.

DATES: This rule is effective June 9, 2017.

ADDRESSES: The EPA has established a docket, identified by Docket ID No. EPA-HQ-OAR-2016-0515, that can be found online at https://www.regulations.gov. Although listed in the index, some information may not be publicly available, e.g., Confidential Business Information or other information disclosure of which is restricted by statute. Certain other material, such as copyrighted material, is not placed on the Internet and will be publicly available only in hard copy form. Publicly available docket materials are available electronically through https://www.regulations.gov.

FOR FURTHER INFORMATION CONTACT: Ms. Leigh Herrington, Office of Air Quality Planning and Standards, Air Quality Policy Division, Mail code C539-01, Research Triangle Park, NC 27711, telephone (919) 541-0882; fax number: (919) 541-5315; email address: herrington.leigh@epa.gov.

SUPPLEMENTARY INFORMATION:

I. General Information

A. Does this action apply to me?

Entities affected by this action include six states with one or more areas designated nonattainment and classified as “Moderate” for the 2006 24-hour PM2.5 NAAQS. Entities potentially affected indirectly by this action include owners or operators of sources of emissions of direct PM2.5 or PM2.5 precursors (ammonia, nitrogen oxides, sulfur dioxide and volatile organic compounds) that contribute to PM2.5 levels within the designated nonattainment areas the EPA is addressing in this action.

B. Where can I get a copy of this document and other related information?

In addition to being available in the docket, an electronic copy of this notice will be posted at https://www.epa.gov/pm-pollution/particulate-matter-pm-implementation-regulatory-actions.

C. How is this document organized?

I. General Information

A. Does this action apply to me?

B. Where can I get a copy of this document and other related information?

C. How is this document organized?

II. Proposed Actions

III. Final Actions

A. Determinations of Attainment by the Attainment Date

B. Determinations of Failure To Attain by the Attainment Date and Reclassification to Serious

C. Public Comments

IV. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act (NTTAA)

J. Executive Order 12898: Federal Actions To Address Environmental Justice in Minority Populations and Low-Income Populations

K. Congressional Review Act (CRA)

L. Judicial Review

II. Proposed Actions

On December 16, 2016 (81 FR 91088), the EPA proposed to find that seven nonattainment areas classified as Moderate attained the 2006 24-hour PM2.5 NAAQS by the applicable attainment date of December 31, 2015, based on complete, quality-assured and certified PM2.5 monitoring data for the 3-year period of 2013 to 2015.¹ The seven designated nonattainment areas are: (1) Chico, California; (2) Imperial County, California; (3) Knoxville-Sevierville-La Follette, Tennessee; (4) Liberty-Clairton, Pennsylvania; (5) Nogales, Arizona; (6) Sacramento, California; and, (7) San Francisco Bay Area, California.²

¹ An area's design value for the 24-hour PM2.5 NAAQS is the highest of the 3-year average of annual 98th percentile 24-hour average PM2.5 mass concentration values recorded at any eligible monitoring site (40 CFR part 50, Appendix N, 1.0(c)(2)).

² Note that there are three 2006 PM2.5 NAAQS Moderate nonattainment areas not addressed in that proposal or this final action: (1) Klamath Falls, OR; (2) Oakridge, OR; and (3) West Central Pinal, AZ. For the Klamath Falls, OR, nonattainment area, the EPA issued a determination of attainment by the attainment date of December 31, 2014, on June 6, 2016 (81 FR 36176). For the Oakridge, OR, nonattainment area, the EPA issued a 1-year attainment date extension from December 31, 2015, to December 31, 2016, on July 18, 2016 (81 FR 46612). For the West Central Pinal, AZ, nonattainment area, the EPA designated the area as nonattainment on February 3, 2011 (76 FR 6056), and therefore will make a determination about whether or not the area has attained the 2006 PM2.5 NAAQS after the attainment date of December 31, 2017.

The EPA also proposed to find that four nonattainment areas classified as Moderate failed to attain the 2006 24-hour PM2.5 NAAQS by December 31, 2015: (1) Fairbanks, Alaska; (2) Logan, Utah-Idaho; (3) Provo, Utah; and (4) Salt Lake City, Utah. The proposal stated that, as required by Clean Air Act (CAA) section 188(b)(2), upon finalization of the EPA's determinations that these four areas failed to attain, the areas would be reclassified to Serious by operation of law and would be subject to all applicable Serious area attainment planning and nonattainment New Source Review (NNSR) requirements. In the December 2016 proposal, the EPA also discussed its determination that the Logan, Utah-Idaho, multistate nonattainment area did not qualify for a 1-year attainment date extension, despite the state of Idaho's request for such an extension, due to a lack of valid air quality data for calendar year 2015.

The proposal also explained that under CAA section 188(b)(2) and the EPA's final rule, titled, “Fine Particulate Matter National Ambient Air Quality Standards: State Implementation Plan Requirements” (81 FR 58010, August 24, 2016) (hereinafter “PM2.5 SIP Requirements Rule”), a state is required to make a SIP submission to address the statutory and regulatory requirements for any area that has been reclassified to Serious under CAA section 188(b)(2) within 18 months from the effective date of reclassification, or 2 years before the attainment date, whichever is earlier. See 40 CFR 51.1003(b)(2)(ii). Thus, Serious area attainment plan submissions for the areas reclassified in this action will be due by December 31, 2017, and consistent with CAA section 188(c)(2), the affected states will be required to demonstrate that the area will attain the standard as expeditiously as practicable, but no later than December 31, 2019 (the end of the tenth calendar year following the effective date of designation of the area). The EPA notes that states with areas reclassified to Serious may also elect to seek an extension of the applicable attainment date pursuant to CAA section 188(e), if they meet the applicable criteria.

III. Final Actions

A. Determinations of Attainment by the Attainment Date

For this rulemaking, the EPA evaluated data from air quality monitors in 10 nonattainment areas classified as Moderate for the 2006 24-hour PM2.5 NAAQS in order to determine the attainment status of each area as of the December 31, 2015, attainment date. Each of the seven nonattainment areas for which the EPA proposed determinations of attainment by the attainment date, listed in Table 1, had valid monitoring data and a design value equal to or less than 35 micrograms per cubic meter (μg/m³) based on the 2013 to 2015 monitoring period. The EPA received no adverse comments on these proposed determinations of attainment. Therefore, pursuant to CAA section 188(b)(2) of the CAA, the agency is making final determinations that these seven nonattainment areas attained the 2006 24-hour PM2.5 NAAQS by the applicable attainment date of December 31, 2015. The EPA's determinations are based upon 3 years of complete, quality-assured and certified data for calendar years 2013 to 2015. The monitoring data for the 3 years (2013 to 2015) used to calculate each monitor's design value are provided in a technical support document (TSD) in the docket for this action.³

³ See, “Technical Support Document Regarding PM2.5 Monitoring Data—Determinations of Attainment by the Attainment Date, Determinations of Failure to Attain by the Attainment Date and Reclassification for Certain Nonattainment Areas for the 2006 24-Hour Fine Particulate Matter National Ambient Air Quality Standards,” dated April 19, 2017, within this action's docket.

Once effective, this action satisfies the EPA's obligation pursuant to CAA section 188(b)(2) to determine whether these seven areas attained the standard by the applicable attainment date. These determinations of attainment do not constitute a redesignation to attainment. Rather, redesignations require states to meet a number of additional statutory criteria in CAA section 107(d)(3), including EPA approval of a state plan demonstrating maintenance of the air quality standard for 10 years after redesignation.

B. Determinations of Failure To Attain by the Attainment Date and Reclassification to Serious

In its December 2016 proposal, the EPA proposed to determine that four nonattainment areas (Fairbanks, Alaska; Logan, Utah-Idaho; Provo, Utah; and Salt Lake City, Utah) failed to attain the 2006 24-hour PM2.5 NAAQS by the applicable attainment date of December 31, 2015, because the 2013 to 2015 design value for at least one monitor in each area exceeded the 2006 24-hour PM2.5 NAAQS of 35 μg/m³. The TSD provided in the docket shows the quality-assured monitoring data for the relevant years for each of these nonattainment areas, as well as the 3-year design value calculations for each area.

Pursuant to CAA section 188(b)(2), the EPA is finalizing the proposed determinations that three areas (Fairbanks, Alaska; Provo, Utah; and Salt Lake City, Utah) failed to attain the 2006 24-hour PM2.5 NAAQS by the applicable December 31, 2015, attainment date.⁴ Therefore, upon the effective date of this rule, these three Moderate nonattainment areas will be reclassified by operation of law to Serious for the 2006 PM2.5 standards. A Serious PM2.5 nonattainment area is required to attain the standard as expeditiously as practicable, but no later than by the end of the tenth year after designation (December 31, 2019).

⁴ Since the issuance of the December 2016 proposed action, the state of Utah has provided additional information for the monitoring sites in the Logan, Utah-Idaho, area. The EPA needs additional time to consider this information, and, therefore, is not taking final action for the Logan, Utah-Idaho, area in this notice. The EPA intends to act separately on the Logan, Utah-Idaho, area.

Table 1 provides a summary of the determinations of attainment and determinations of failure to attain (reclassifications) being finalized in this action.

Table 1—Summary of Determinations of Attainment by the Attainment Date/Reclassifications for Certain Moderate Nonattainment Areas for the 2006 24-Hour PM2.5 NAAQS
2006 24-hour PM2.5 NAAQS nonattainment area | 2013-2015 Design value (μg/m³) | Final action
Chico, CA | 29 | Determination of attainment.
Fairbanks, AK | 124 | Failed to attain; reclassification to Serious.
Imperial County, CA | 33 | Determination of attainment.
Knoxville-Sevierville-La Follette, TN | 20 | Determination of attainment.
Liberty-Clairton, PA | 33 | Determination of attainment.
Nogales, AZ | 28 | Determination of attainment.
Provo, UT | * 50 | Failed to attain; reclassification to Serious.
Sacramento, CA | 35 | Determination of attainment.
Salt Lake City, UT | * 45 | Failed to attain; reclassification to Serious.
San Francisco Bay Area, CA | 30 | Determination of attainment.
* See April 19, 2017, memorandum titled, Salt Lake and Provo, Utah PM2.5 2013-2015 24-hour Design Value, from Gail Fallon, U.S. EPA, Region 8, to the File.

C. Public Comments

The public comment period for the EPA's December 16, 2016, proposal closed on January 17, 2017. To review the comments received on the proposed rule and the Response to Comment document that accompanies this final rule, please go to https://www.regulations.gov and search for Docket ID No. EPA-HQ-OAR-2016-0515. A majority of commenters supported the EPA's proposal to determine that certain nonattainment areas did not attain the 2006 24-hour PM2.5 NAAQS by the applicable attainment date and thus the reclassification of the areas to Serious. The EPA received comments expressing concerns about proposed determinations for the Logan, Utah-Idaho, and Fairbanks, Alaska, nonattainment areas, which are addressed here.

Comment: Idaho Department of Environmental Quality (DEQ) opposed the EPA's determination not to grant the 1-year extension and subsequent determination that the Logan, Utah-Idaho, nonattainment area failed to attain by the December 31, 2015, attainment date. Idaho DEQ asserted that the area met the requirements under CAA section 188(d) and the PM2.5 SIP Requirements Rule relevant to extensions of the Moderate area attainment date (i.e., that the area has complied with all requirements and commitments pertaining to the area in the applicable implementation plans and monitoring data show that the 2015 98th percentile are below the PM2.5 NAAQS for the Franklin County monitor on the Idaho side of the nonattainment area). Idaho DEQ acknowledged that data were incomplete and requested that the EPA determine the area's 2015 98th percentile data using the same data that the EPA used to determine the area's 2013 to 2015 design value.

Response: The EPA is considering these comments and is not taking final action on the Logan, Utah-Idaho, nonattainment area at this time.

Comment: Three commenters did not question the EPA's proposed determination that the Fairbanks, Alaska, area failed to attain the 2006 24-hour NAAQS by December 31, 2015, but asserted that the Serious area attainment plan for the Fairbanks, Alaska, 2006 24-hour PM2.5 NAAQS nonattainment area should be due 18 months after the effective date of the Serious area reclassification rather than December 31, 2017. The commenters stated that, under CAA section 189(b)(2), states have 18 months from the effective date of a reclassification to complete plans and that the change in the submission deadline was not proposed during the EPA's rulemaking to promulgate the PM2.5 SIP Requirements Rule. Commenters pointed to “two alternative schedules” for SIP submissions in response to mandatory and discretionary reclassifications to Serious, and allege the EPA's PM2.5 SIP Requirements Rule is “in error by adding the clause that reflects the discretionary reclassification language and mandatory language together.” The Alaska Department of Environmental Conservation also claimed that requiring the state to submit the Serious area attainment plan by December 31, 2017, would result in insufficient time to prepare and adopt a very complex plan with adequate public process and public participation.

Response: The EPA acknowledges that meeting the Serious area attainment plan submission deadline may be challenging for those areas reclassified from Moderate to Serious in this final action, and understands the desire for additional time. Because the submission due date was established in the final PM2.5 SIP Requirements Rule and the EPA did not propose any changes to this date in its December 2016 proposal, we cannot make changes to this date here. In that prior rulemaking, the EPA addressed the issue of when states must submit Serious area attainment plans when they are reclassified, in order to comport with statutory requirements for the attainment date for such nonattainment areas. Accordingly, EPA promulgated 40 CFR 51.1003(b)(2)(ii), which provides that in the event of a mandatory reclassification from Moderate to Serious upon a determination that an area fails to attain, the state is required to submit the Serious area attainment plan “within 18 months from the effective date of reclassification, or 2 years before the attainment date, whichever is earlier.” ⁵ The EPA did not reopen the issue of the attainment plan submission date in this action regarding determinations of attainment, and merely noted the submission date for informational purposes. Even though the comment on the SIP submission due date is out of scope for this rulemaking action, the EPA understands the significant effort involved in preparing an attainment plan revision and stands ready to help the state prepare this plan.

⁵ In the PM2.5 SIP Requirements Rule, the EPA provided its reasoning for establishing the submission date contained in 40 CFR 51.1003(b)(2)(ii). See generally 81 FR 58074-58078 (comprehensive discussion of the rationale behind plan due dates for areas subject to either a discretionary or a mandatory reclassification to Serious); Response to Comments, pages 134-138, available at https://www.regulations.gov under docket item EPA-HQ-OAR-2013-0691-0145. As EPA explained, “a minimum of 2 years is appropriate because (1) it provides time for emission reduction measures adopted by the state to take effect and improve air quality; (2) it will allow the agency sufficient time to evaluate and act on the Serious area attainment demonstration; and (3) for every other NAAQS, the CAA SIP submission dates are generally 2 years or more prior to the attainment date.” 81 FR 58077. The EPA even included a discussion of what would arise if the deadline were similar to that the commenters are advocating, explaining that “[if] the plan is not submitted until just before year 10, and the agency determines the plan will not lead to attainment, there will be no time to take corrective action before the attainment date to ensure attainment of the NAAQS.” Id.

The EPA understands that in this particular instance, the submission date for the Serious area attainment plan may be challenging in light of the complexity of the air quality situation in the Fairbanks, Alaska, nonattainment area and the need for public process in adopting plans. The EPA will prioritize working with Alaska to help the state prepare the required Serious area attainment plan as expeditiously and efficiently as possible. The EPA also believes that in light of the December 2015 Moderate area plan developed by the state demonstrating it was impracticable to attain by the Moderate area attainment date of December 31, 2015, and the work already done by the state on the Serious area plan in anticipation of this determination of failure to attain, a Serious area plan can be submitted in a timely manner.

IV. Statutory and Executive Order Reviews

A. Executive Order 12866: Regulatory Planning and Review and Executive Order 13563: Improving Regulation and Regulatory Review

This action is exempt from review by the Office of Management and Budget (OMB) because it will satisfy the CAA obligation to make determinations of attainment based on an area's air quality as of the attainment date.

B. Paperwork Reduction Act (PRA)

This rule does not impose any additional information collection burden under the provisions of the PRA, 44 U.S.C. 3501 et seq. This action to find that three Moderate PM2.5 nonattainment areas listed in Table 1 have failed to attain the 2006 24-hour PM2.5 NAAQS by their attainment date and to reclassify those areas as Serious PM2.5 nonattainment areas does not establish any new information collection burden not already covered under OMB control number 2060-0611.

C. Regulatory Flexibility Act (RFA)

I certify that this action will not have a significant economic impact on a substantial number of small entities under the RFA. This action will not impose any requirements on small entities. Determinations that certain areas attained the 2006 24-hour PM2.5 NAAQS do not create any new requirements. Determinations that certain nonattainment areas failed to attain the 2006 24-hour PM2.5 NAAQS by their attainment date and the resulting reclassification of these areas by operation of law under CAA section 188(b)(2) similarly do not in and of themselves create any new requirements. Instead, this rulemaking only makes factual determinations, and does not directly regulate any entities.

D. Unfunded Mandates Reform Act (UMRA)

This action does not contain any unfunded mandate as described in UMRA, 2 U.S.C. 1531-1538, and does not significantly or uniquely affect small governments. The EPA believes, as discussed previously in this document, that a determination of nonattainment is a factual determination based upon air quality considerations, and the resulting reclassification of an area and the associated required revisions to SIPs must occur by operation of law. Thus, this action imposes no enforceable duty on any state, local or tribal governments or the private sector.

E. Executive Order 13132: Federalism

This action does not have federalism implications. It will not have substantial direct effects on the states, on the relationship between the national government and the states, or on the distribution of power and responsibilities among the various levels of government. Pursuant to the CAA, this action determines whether the 2006 24-hour PM2.5 nonattainment areas listed in Table 1 attained the 2006 24-hour PM2.5 NAAQS by the applicable attainment date, and reclassifies as “Serious,” by operation of law, the areas that did not do so.

F. Executive Order 13175: Consultation and Coordination With Indian Tribal Governments

This action does not have tribal implications as specified in Executive Order 13175. No tribal areas are located in the three areas that failed to attain the 2006 24-hour PM2.5 NAAQS by the applicable attainment date. The CAA and the Tribal Authority Rule establish the relationship of the federal government and tribes in developing plans to attain the NAAQS, and this rule does nothing to modify that relationship. Thus, Executive Order 13175 does not apply to this action.

G. Executive Order 13045: Protection of Children From Environmental Health Risks and Safety Risks

This action is not subject to Executive Order 13045 because it is not economically significant as defined in Executive Order 12866, and because the EPA does not believe any environmental health or safety risks addressed by this action present a disproportionate risk to children. This action determines that three 2006 24-hour PM2.5 nonattainment areas, identified in Table 1, did not attain the 2006 24-hour PM2.5 standard by their applicable attainment date and thus these areas will be reclassified by operation of law as Serious PM2.5 nonattainment areas.

H. Executive Order 13211: Actions That Significantly Affect Energy Supply, Distribution, or Use

This action is not subject to Executive Order 13211, because it is not a significant regulatory action under Executive Order 12866.

I. National Technology Transfer and Advancement Act (NTTAA)

This rulemaking does not involve technical standards. This action merely determines that three 2006 24-hour PM2.5 nonattainment areas, identified in Table 1, did not attain the 2006 24-hour PM2.5 standard by their applicable attainment date and thus these areas will be reclassified by operation of law as Serious PM2.5 nonattainment areas.

J. Executive Order 12898: Federal Actions To Address Environmental Justice in Minority Populations and Low-Income Populations

The EPA believes that this action does not have disproportionately high and adverse human health or environmental effects on minority populations, low-income populations and/or indigenous peoples, as specified in Executive Order 12898 (59 FR 7629, February 16, 1994). This action merely determines that three 2006 24-hour PM2.5 nonattainment areas, identified in Table 1, did not attain by the applicable attainment date and thus these nonattainment areas will be reclassified by operation of law as Serious PM2.5 nonattainment areas. Reclassifying the three nonattainment areas from Moderate to Serious will help protect all of those residing, working, attending school, or otherwise present in those areas regardless of minority or economic status.

K. Congressional Review Act (CRA)

This rule is exempt from the CRA because it is a rule of particular applicability that names specific entities where this rule makes factual determinations and does not directly regulate any entities. The determinations of attainment and failure to attain the 2006 24-hour PM2.5 NAAQS (and resulting reclassifications) contained in this final rule do not in and of themselves create any new requirements beyond what is already mandated by the CAA.

L. Judicial Review

Under CAA section 307(b)(1) of the CAA, petitions for judicial review of final actions that are locally and regionally applicable may be filed only in the United States Court of Appeals for the appropriate circuit. However, the statute also provides that notwithstanding that general rule, “a petition for review of any action . . . may be filed only in the United States Court of Appeals for the District of Columbia if such action is based on a determination of nationwide scope or effect and if in taking such action the Administrator finds and publishes that such action is based on such determination.” 42 U.S.C. 7607(b)(1). See also Dalton Trucking v. EPA, 808 F.3d 875 (D.C. Circuit 2015). Because this final action makes findings with regard to nonattainment areas across the country and interprets the CAA and applies such interpretations to states and nonattainment areas across the country, the Administrator finds that this action has nationwide scope and effect. Therefore, in accordance with CAA section 307(b)(1), petitions for review of this final action may be filed only in the United States Court of Appeals for the District of Columbia Circuit by July 10, 2017. Note, under CAA section 307(b)(2), the requirements established by this final rule may not be challenged separately in any civil or criminal proceedings for enforcement.

List of Subjects

40 CFR Part 52

Environmental protection, Air pollution control, Ammonia, Fine particulate matter, Incorporation by reference, Intergovernmental relations, Nitrogen oxides, Reporting and recordkeeping requirements, Sulfur dioxides, Volatile organic compounds.

40 CFR Part 81

Environmental protection, Air pollution control, Ammonia, Fine particulate matter, Intergovernmental relations, Nitrogen oxides, Reporting and recordkeeping requirements, Sulfur dioxides, Volatile organic compounds.

Authority: 42 U.S.C. 7401 et seq.

Dated: April 28, 2017.
E. Scott Pruitt,
Administrator.

For the reasons stated in the preamble, title 40, chapter I of the Code of Federal Regulations is to be amended as follows:

PART 52—APPROVAL AND PROMULGATION OF IMPLEMENTATION PLANS

1. The authority citation for part 52 continues to read as follows:

Authority: 42 U.S.C. 7401 et seq.

Subpart D—Arizona

2. Section 52.131 is amended by adding paragraph (c) to read as follows:

§ 52.131 Control Strategy and regulations: Fine Particle Matter.

* * * * *

(c) Determination of attainment. Effective June 9, 2017, the EPA has determined that, based on 2013 to 2015 ambient air quality data, the Nogales, AZ PM2.5 nonattainment area has attained the 2006 24-hour PM2.5 NAAQS by the applicable attainment date of December 31, 2015. Therefore, the EPA has met the requirement pursuant to CAA section 188(b)(2) to determine whether the area attained the standard. The EPA also has determined that the Nogales, AZ nonattainment area will not be reclassified for failure to attain by its applicable attainment date under section 188(b)(2).

Subpart F—California

3. Section 52.247 is amended by adding paragraphs (j), (k), (l), and (m) to read as follows:

§ 52.247 Control Strategy and regulations: Fine Particle Matter.

* * * * *

(j) Determination of attainment. Effective June 9, 2017, the EPA has determined that, based on 2013 to 2015 ambient air quality data, the Chico, CA PM2.5 nonattainment area has attained the 2006 24-hour PM2.5 NAAQS by the applicable attainment date of December 31, 2015. Therefore, the EPA has met the requirement pursuant to CAA section 188(b)(2) to determine whether the area attained the standard. The EPA also has determined that the Chico, CA nonattainment area will not be reclassified for failure to attain by its applicable attainment date under section 188(b)(2).

(k) Determination of attainment. Effective June 9, 2017, the EPA has determined that, based on 2013 to 2015 ambient air quality data, the Imperial County, CA PM2.5 nonattainment area has attained the 2006 24-hour PM2.5 NAAQS by the applicable attainment date of December 31, 2015. Therefore, the EPA has met the requirement pursuant to CAA section 188(b)(2) to determine whether the area attained the standard. The EPA also has determined that the Imperial County, CA nonattainment area will not be reclassified for failure to attain by its applicable attainment date under section 188(b)(2).

(l) Determination of attainment. Effective June 9, 2017, the EPA has determined that, based on 2013 to 2015 ambient air quality data, the Sacramento, CA PM2.5 nonattainment area has attained the 2006 24-hour PM2.5 NAAQS by the applicable attainment date of December 31, 2015. Therefore, the EPA has met the requirement pursuant to CAA section 188(b)(2) to determine whether the area attained the standard. The EPA also has determined that the Sacramento, CA nonattainment area will not be reclassified for failure to attain by its applicable attainment date under section 188(b)(2).

(m) Determination of attainment. Effective June 9, 2017, the EPA has determined that, based on 2013 to 2015 ambient air quality data, the San Francisco Bay, CA PM2.5 nonattainment area has attained the 2006 24-hour PM2.5 NAAQS by the applicable attainment date of December 31, 2015. Therefore, the EPA has met the requirement pursuant to CAA section 188(b)(2) to determine whether the area attained the standard. The EPA also has determined that the San Francisco Bay, CA nonattainment area will not be reclassified for failure to attain by its applicable attainment date under section 188(b)(2).

Subpart NN—Pennsylvania

4. Section 52.2059 is amended by adding paragraph (v) to read as follows:

§ 52.2059 Control strategy: Particulate matter.

* * * * *

(v) Determination of attainment. Effective June 9, 2017, the EPA has determined that, based on 2013 to 2015 ambient air quality data, the Liberty-Clairton, PA PM2.5 nonattainment area has attained the 2006 24-hour PM2.5 NAAQS by the applicable attainment date of December 31, 2015. Therefore, the EPA has met the requirement pursuant to CAA section 188(b)(2) to determine whether the area attained the standard. The EPA also has determined that the Liberty-Clairton, PA nonattainment area will not be reclassified for failure to attain by its applicable attainment date under section 188(b)(2).

Subpart RR—Tennessee

5. Section 52.2231 is amended by adding paragraph (f) to read as follows:

§ 52.2231 Control strategy: Sulfur oxides and particulate matter.

* * * * *

(f) Determination of attainment. Effective June 9, 2017, the EPA has determined that, based on 2013 to 2015 ambient air quality data, the Knoxville-Sevierville-La Follette, Tennessee PM2.5 nonattainment area has attained the 2006 24-hour PM2.5 NAAQS by the applicable attainment date of December 31, 2015. Therefore, the EPA has met the requirement pursuant to CAA section 188(b)(2) to determine whether the area attained the standard. The EPA also has determined that the Knoxville-Sevierville-La Follette, Tennessee nonattainment area will not be reclassified for failure to attain by its applicable attainment date under section 188(b)(2).

PART 81—DESIGNATION OF AREAS FOR AIR QUALITY PLANNING PURPOSES

6. The authority citation for part 81 continues to read as follows:

Authority: 42 U.S.C. 7401, et seq.

Subpart C—Section 107 Attainment Status Designations

7. Section 81.302 is amended in the table “Alaska—2006 24-Hour PM2.5 NAAQS (Primary and secondary)” by revising the entries for “Fairbanks, AK” to read as follows:

§ 81.302 Alaska.

* * * * *

Alaska—2006 24-Hour PM2.5 NAAQS
[Primary and secondary]
Designated area | Designation ᵃ: Date ¹ | Designation ᵃ: Type | Classification: Date ² | Classification: Type
Fairbanks, AK:
AQCR 09 Northern Alaska Intrastate:
Fairbanks North Star Borough (part) |  | Nonattainment | 6/9/17 | Serious.
The following townships and ranges: —MTRS F001N001—All Sections; —MTRS F001N001E—Sections 2-11, 14-23, 26-34; —MTRS F001N002—Sections 1-5, 8-17, 20-29, 32-36; —MTRS F001S001E—Sections 1, 3-30, 32-36; —MTRS F001S001W—Sections 1-30; —MTRS F001S002E—Sections 6-8, 17-20, 29-36; —MTRS F001S002W—Sections 1-5, 8-17, 20-29, 32-33; —MTRS F001S003E—Sections 31-32; —MTRS F002N001E—Sections 31-35; —MTRS F002N001—Sections 28, 31-36; —MTRS F002N002—Sections 32-33, 36; —MTRS F002S001E—Sections 1-2; —MTRS F002S002E—Sections 1-17, 21-24; —MTRS F002S003E—Sections 5-8, 18
* * * * * * *
ᵃ Includes Indian Country located in each county or area, except as otherwise specified.
¹ This date is 30 days after November 13, 2009, unless otherwise noted.
² This date is July 2, 2014, unless otherwise noted.

* * * * *

8. Section 81.345 is amended in the table “Utah—2006 24-Hour PM2.5 NAAQS (Primary and secondary)” by revising the entries for “Provo, UT” and “Salt Lake City, UT” to read as follows:

§ 81.345 Utah.

* * * * *

Utah—2006 24-Hour PM2.5 NAAQS
[Primary and secondary]
Designated area | Designation ᵃ: Date ¹ | Designation ᵃ: Type | Classification: Date ² | Classification: Type
* * * * * * *
Provo, UT:
Utah County (part) |  | Nonattainment | 6/9/17 | Serious.
The area of Utah County that lies west of the Wasatch Mountain Range (and this includes the Cities of Provo and Orem) with an eastern boundary for Utah County to be defined as the following Townships: Township 3 South Range 1 East; Township 4 South Range 2 East; Township 5 South Range 3 East; Township 6 South Range 3 East; Township 7 South Range 3 East; Township 8 South Range 3 East; Township 9 South Range 3 East; Township 10 South Range 2 East
Salt Lake City, UT:
Box Elder County (part) |  | Nonattainment | 6/9/17 | Serious.
The following Townships or portions thereof as noted (including Brigham City): Township 7 North Range 2 West; Township 8 North Range 2 West; Township 9 North Range 2 West; Township 10 North Range 2 West; Township 11 North Range 2 West; Township 12 North Range 2 West; Township 13 North Range 2 West; Township 9 North Range 3 West; Township 10 North Range 3 West; Township 11 North Range 3 West; Township 12 North Range 3 West; Township 13 North Range 3 West; Township 13 North Range 4 West; Township 12 North Range 4 West; Township 11 North Range 4 West; Township 10 North Range 4 West; Township 9 North Range 4 West; Township 13 North Range 5 West; Township 12 North Range 5 West; Township 11 North Range 5 West; Township 10 North Range 5 West; Township 9 North Range 5 West; Township 13 North Range 6 West; Township 12 North Range 6 West; Township 11 North Range 6 West; Township 10 North Range 6 West; Township 9 North Range 6 West; Township 7 North Range 1 West (portion located in Box Elder County); Township 8 North Range 1 West (portion located in Box Elder County); Township 9 North Range 1 West (portion located in Box Elder County)
Davis County |  | Nonattainment | 6/9/17 | Serious.
Salt Lake County |  | Nonattainment | 6/9/17 | Serious.
Tooele County (part) |  | Nonattainment | 6/9/17 | Serious.
The following Townships or portions thereof as noted (including Tooele City): Township 1 South Range 3 West; Township 2 South Range 3 West; Township 3 South Range 3 West; Township 3 South Range 4 West; Township 2 South Range 4 West; Township 2 South Range 5 West; Township 3 South Range 5 West; Township 3 South Range 6 West; Township 2 South Range 6 West; Township 1 South Range 6 West; Township 1 South Range 5 West; Township 1 South Range 4 West; Township 1 South Range 7 West; Township 2 South Range 7 West; Township 3 South Range 7 West; all Sections within Township 4 South Range 7 West except for Sections 29, 30, 31 and 32; Township 4 South Range 6 West; Township 4 South Range 5 West; Township 4 South Range 4 West; Township 4 South Range 3 West
Weber County (part) |  | Nonattainment | 6/9/17 | Serious.
The area of Weber County that lies west of the Wasatch Mountain Range with an eastern boundary for Weber County to be defined as the following Townships (or portion thereof) extending to the western boundary of Weber County: Township 5 North Range 1 West; Township 6 North Range 1 West; all Sections within Township 7 North Range 1 West located within Weber County except for Sections 1, 2, 3, 4, 11, 12, 13 and 24; Township 7 North Range 2 West (portion located in Weber County)
* * * * * * *
ᵃ Includes Indian Country located in each county or area, except as otherwise specified.
¹ This date is 30 days after November 13, 2009, unless otherwise noted.
² This date is July 2, 2014, unless otherwise noted.

* * * * *

[FR Doc. 2017-09391 Filed 5-9-17; 8:45 am]

BILLING CODE 6560-50-P